DEPARTMENT OF COMMERCE

National Institute of Standards and Technology

Advanced Technology Program Advisory Committee

AGENCY: National Institute of Standards and Technology; Department of Commerce.

ACTION: Notice of partially closed meeting.

SUMMARY: Pursuant to the Federal Advisory Committee Act, 5 U.S.C. app. 2, notice is hereby given that the Advanced Technology Program Advisory Committee, National Institute of Standards and Technology (NIST) will meet Tuesday, May 15, 2007 from 8:30 a.m. to 3 p.m. The Advanced Technology Program Advisory Committee is composed of ten members appointed by the Director of NIST who are eminent in such fields as business, research, new product development, engineering, education, and management consulting. The purpose of this meeting is to review and make recommendations regarding general policy for the Advanced Technology Program (ATP), its organization, its budget, and its programs within the framework of applicable national policies as set forth by the President and the Congress. The agenda will include an ATP Update and a presentation on “The Data Enclave.” A discussion scheduled to begin at 11 a.m. and to end at 3 p.m. on May 15, 2007, on ATP budget issues will be closed. Agenda may change to accommodate Committee business.

DATES: The meeting will convene Tuesday, May 15, at 8:30 a.m. and will adjourn at 3 p.m. on Tuesday, May 15, 2007.

ADDRESSES: The meeting will be held at the National Institute of Standards and Technology, Administration Building, Employees' Lounge, Gaithersburg, Maryland 20899. All visitors to the National Institute of Standards and Technology site will have to pre-register to be admitted. Please submit your name, time of arrival, e-mail address and phone number to Donna Paul no later than Friday, May 11, and she will provide you with instructions for admittance. Ms. Paul's e-mail address is donna.paul@nist.gov and her phone number is 301/975-2162.

FOR FURTHER INFORMATION CONTACT: Donna Paul, National Institute of Standards and Technology, Gaithersburg, Maryland 20899-4700, telephone number (301) 975-2162.

SUPPLEMENTARY INFORMATION: The agenda will include an ATP Update and a presentation on The Data Enclave. A discussion scheduled to begin at 11 a.m. and to end at 3 p.m. on May 15, 2007, on ATP budget issues will be closed. Agenda may change to accommodate Committee business. The Assistant Secretary for Administration, with the concurrence of the General Counsel, formally determined on January 9, 2007, that portions of the meeting of the Advanced Technology Program Advisory Committee which involve discussion of proposed funding of the Advanced Technology Program may be closed in accordance with 5 U.S.C. 552b(c)(9)(B), because that portion will divulge matters the premature disclosure of which would be likely to significantly frustrate implementation of proposed agency actions.

Dated: April 5, 2007.
William Jeffrey,
Director.

[FR Doc. E7-7075 Filed 4-12-07; 8:45 am]

BILLING CODE 3510-13-P